DEPARTMENT OF STATE

[Public Notice 4744]

Advisory Committee on International Communications and Information Policy Meeting Notice

The Department of State announces the next meeting of its Advisory Committee on International Communications and Information Policy (ACICIP), to be held on Wednesday, August 18, from 9 a.m. until 11:30 a.m., in Room 1406 of the Harry S Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

Ambassador David A. Gross, Deputy Assistant Secretary and U.S. Coordinator for International Communications and Information Policy, will attend the meeting together with others from the Office of Communications and Information Policy at the Department of State. Items on the agenda will include Amb. Gross's forthcoming visit to China, issues on the agenda of the October meeting of the World Telecommunications Standards Assembly, reports from the sub-committees of ACICIP, international actions concerning spam, the recent preparatory meeting for Phase II of the World Summit on the Information Society, emerging technologies, and other key multilateral and bilateral issues on the agendas of meetings this fall. Amb. Gross would also like to solicit ideas from ACICIP on current issues facing the telecommunications and information sectors.

Members of the public may attend the meeting up to the seating capacity of the room. While the meeting is open to the public, admittance to the Department of State building is only by means of a pre-arranged clearance list. In order to be placed on the pre-clearance list, those interested in attending must provide name, title, affiliation, social security number, date of birth and citizenship to Avis Alston at AlstonAC@state.gov no later than 5:00 p.m. on Monday, August 16. All attendees must enter by the 23rd Street entrance. One of the following valid Identifications will be required for admittance: Any U.S. driver's license with photo, a passport, or a U.S. government agency ID. For security reasons, all those attendees who do not have U.S. government agency IDs must be escorted by Department of State personnel at all times when in the building.

For further information, please contact Elizabeth W. Shelton, Executive Secretary of the Committee at (202) 647-5233, or at SheltonEW@State.gov.

Dated: July 20, 2004.
Elizabeth W. Shelton,
Executive Secretary, ACICIP, Department of State.

[FR Doc. 04-16972 Filed 7-23-04; 8:45 am]

BILLING CODE 4710-07-P